FEDERAL COMMUNICATIONS COMMISSION

Schedule Change and Deletion of Consent Agenda Items From March 31, 2016 Open Meeting

March 31, 2016.

The order of presentations for the Federal Communications Commission Open Meeting on March 31, 2016 and listed in the Commission's Notice of March 24, 2016, has been changed and is listed below. In addition, the Consent Agenda scheduled for consideration at the Open Meeting has been deleted. Items 1, 3, 4 and 5 from the consent agenda have been adopted by the Commission.

Please note that the time for the open meeting is rescheduled from 10:30 a.m. to 12:00 p.m. The prompt and orderly conduct of the Commission's business requires this change and no earlier announcement was practicable.

1 | MEDIA | TITLE: Video Description: Implementation of the Twenty-First Century Communications and Video Accessibility Act of 2010 (MB Docket No. 11-43).
|  | SUMMARY: The Commission will consider a Notice of Proposed Rulemaking that seeks comment on proposals to expand the amount of and access to video described programming, for the benefit of consumers who are blind or visually impaired.
3 | WIRELINE COMPETITION | TITLE: Protecting the Privacy of Customers of Broadband and other Telecommunications Services.
|  | SUMMARY: The Commission will consider a Notice of Proposed Rulemaking seeking comment on a proposed framework for ensuring that consumers have the tools they need to make informed choices about how their data is used and when it is shared by their broadband providers.
2 | WIRELINE COMPETITION | TITLE: Lifeline and Link Up Reform and Modernization (WC Docket 11-42); Telecommunications Carriers Eligible for Universal Service Support (WC Docket No. 09-197); and Connect America Fund (WC Docket No. 10-90).
|  | SUMMARY: The Commission will consider a Third Report and Order, Further Report and Order, and Order on Reconsideration to comprehensively restructure and modernize the Lifeline program to efficiently and effectively connect low-income Americans to broadband, strengthen program oversight and administration, and take additional measures to eliminate waste, fraud, and abuse.
Consent Agenda
1 | MEDIA | TITLE: Application for a Minor Change to the Facilities of Station WJKN(AM), Jackson, Michigan; and, Application for a Minor Change to the Facilities of Station KTGG(AM), Okemos, Michigan.
|  | SUMMARY: The Commission will consider a Memorandum Opinion and Order concerning an Application for Review filed by Christian Family Network's seeking review of a Media Bureau dismissal of CFN's informal objection.
2 | MEDIA | TITLE: Urban One Broadcasting Network, LLC Application for Construction Permit for New FM Station WURB(FM), at Cross City, Florida; and, Application for Construction Permit for Minor Modification to WURB(FM), Cross City, Florida.
|  | SUMMARY: The Commission will consider a Memorandum Opinion and Order concerning an Application for Review filed by Urban One Broadcasting Network, LLC seeking review of Media Bureau Reconsideration Decision.
3 | MEDIA | TITLE: Applications of Powell Meredith Communications Co. and Community Translator Network, LLC for Consent to Assign Construction Permits, K262CM, Needles, California, et al.
|  | SUMMARY: The Commission will consider a Memorandum Opinion and Order concerning an Application for Review filed by Amy Meredith, president of Powell Meredith Communications Company seeking review of a Media Bureau Decision.
4 | MEDIA | TITLE: Comparative Consideration of Two Groups of Mutually Exclusive Applications for Permits to Construct New Noncommercial Educational FM Stations.
|  | SUMMARY: The Commission will consider a Memorandum Opinion and Order which addresses two groups of mutually exclusive applications for new NCE FM station construction permits.
5 | MEDIA | TITLE: Christian Family Network, Inc. Application for Reinstatement and Renewal of License of Station DWOLY(AM), Battle Creek, Michigan; and, Request for Special Temporary Authority to Operate Station DWOLY(AM), Battle Creek, Michigan.
|  | SUMMARY: The Commission will consider a Memorandum Opinion and Order concerning an Application for Review filed by Christian Family Network, Inc. contesting a Media Bureau dismissal and termination of the operating authority of DWOLY(AM).

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-07844 Filed 4-5-16; 8:45 am]

BILLING CODE 6712-01-P